SECURITIES AND EXCHANGE COMMISSION

17 CFR Parts 229, 230, 232, 239, 240, 243, and 249

[Release Nos. 33-9638; 34-72982; File No. S7-08-10]

RIN 3235-AK37

Asset-Backed Securities Disclosure and Registration

Correction

In rule document 2014-21375 appearing on pages 57184 through 57346 in the issue of Wednesday, September 24, 2014, make the following corrections:

§ 229.601 (Item 601) Exhibits [Corrected]

1. On page 57312, in “Exhibit Table”, in column“10-Q”, the entry corresponding with number “(31)” should read “X”.

Appendix to § 229.1125—Schedule AL [Corrected]

2. On page 57328, in column three, on lines 29-33, the entry for paragraph “(b)” should read “If the asset pool includes asset-backed securities issued after November 23, 2016, provide the asset-level information specified in § 229.1111(h) for the assets backing each security in the asset pool.”

[FR Doc. C1-2014-21375 Filed 9-29-14; 8:45 am]

BILLING CODE 1505-01-D